DEPARTMENT OF COMMERCE

International Trade Administration

Applications for Duty-Free Entry of Scientific Instruments

Correction

In notice document 03-18015 beginning on page 42006 in the issue of Wednesday, July 16, 2003, make the following corrections:

1. On page 42007, in the first column, under “Docket Number: 03-031”, in the 13th line, “used in perform“ should read, “used to perform”.

2. On the same page, in the second column, under “Docket Number: 03-033”, in the fifth line, “Model Tecnai ²”, should read, “Model Tecnai G²”

[FR Doc. C3-18015 Filed 7-25-03; 8:45 am]

BILLING CODE 1505-01-D

DEPARTMENT OF DEFENSE

Office of the Secretary

Open Meeting on Department of Defense Directive 1344.7, “Personal Commercial Solicitation on DoD Installations”

Correction

In notice document 03-18508 appearing on page 43344 in the issue of Tuesday, July 22, 2003, make the following correction:

On page 43344, in the third column, under the heading supplementary information, in the 12th line, in the Web site address, “d13447wch2_021386/d13447p.pdgf” should read, “d13447wch2_021386/d13447p.pdf”.

[FR Doc. C3-18508 Filed 7-25-03; 8:45 am]

BILLING CODE 1505-01-D

DEPARTMENT OF HOMELAND SECURITY

Transporation Security Administration

Port Security Grant Program; Application Notice Describing the Category of Interest and Establishing the Closing Date for Receipt of Applications Under the Port Security Grant Program—Round 3

Correction

In notice document 03-18463 beginning on page 43152 in the issue of Monday, July 21, 2003, make the following correction:

On page 43153, in the first column, under the heading for further information contact, in the last line, “Tony.Cario@dhs.gov” should read, “Tony.Corio@dhs.gov”.

[FR Doc. C3-18463 Filed 7-25-03; 8:45 am]

BILLING CODE 1505-01-D

DEPARTMENT OF HOUSING AND URBAN DEVELOPMENT

[Docket No. FR-4815-N-43]

Notice of Submission of Proposed Information Collection to OMB: Application for the Transfer of Physical Assets

Correction

In notice document 03-18180 beginning on page 42745 in the issue of Friday, July 18, 2003 make the following correction:

On page 42745, in the second column, under the DATES heading, in the first line, “ July 18, 2003” should read, “August 18, 2003”.

[FR Doc. C3-18180 Filed 7-25-03; 8:45 am]

BILLING CODE 1505-01-D

DEPARTMENT OF TRANSPORTATION

Federal Aviation Administration

14 CFR Part 39

[Docket No. 2002-NM-205-AD; Amendment 39-13229; AD 2003-14-10]

RIN 2120-AA64

Airworthiness Directives; Boeing Model 767-200 and -300 Series Airplane

Correction

In rule document 03-17693 beginning on page 42583 in the issue of, Friday, July 18, 2003 make the following correction:

§39.13 [Corrected]

On page 42585, in § 39.13, under TABLE 2. -SERVICE BULLETINS, in the fourth column, the fourth line should read “April 19, 2001”.

[FR Doc. C3-17693 Filed 7-25-03; 8:45 am]

BILLING CODE 1505-01-D